DEPARTMENT OF JUSTICE

Bureau of Alcohol, Tobacco, Firearms and Explosives

[OMB Number 1140-NEW]

Agency Information Collection Activities: Proposed Collection; Comments Requested

ACTION: 60-Day Notice of Information Collection Under Review: Letter Requesting Supporting Documents Identifying a Legal Entity.

The Department of Justice (DOJ), Bureau of Alcohol, Tobacco, Firearms and Explosives (ATF), will be submitting the following information collection request to the Office of Management and Budget (OMB) for review and approval in accordance with the Paperwork Reduction Act of 1995. This notice requests comments from the public and affected agencies concerning the proposed information collection. Comments are encouraged and will be accepted on or before February 14, 2011. This process is conducted in accordance with 5 CFR 1320.10.

If you have comments especially on the estimated public burden or associated response time, suggestions, or need a copy of the proposed information collection instrument with instructions or additional information, please contact Gary Schaible, Gary.Schiable@atf.gov National Firearms Act Branch, 99 New York Avenue, NE., Washington, DC 20226 Fax (202) 648-9601.

Written comments and suggestions from the public and affected agencies concerning the proposed information collection are encouraged. Your comments should address one or more of the following four points:

—Evaluate whether the proposed collection of information is necessary for the proper performance of the functions of the agency's including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Summary of Collection:

(1) Type of Information Collection: New.

(2) Title of the Form/Collection: Letter Requesting Supporting Documents Identifying a Legal Entity.

(3) Agency form number, if any, and the applicable component of the Department of Justice sponsoring the collection: Form Number: None. Bureau of Alcohol, Tobacco, Firearms and Explosives.

(4) Affected public who will be asked or required to respond:

Primary: Business or other for-profit.

Other: None.

Need for Collection: The collection of information will be used to determine the lawful existence and validity of a legal entity before ATF approves the transfer of an NFA firearm to that entity.

(5) An estimate of the total number of respondents and the amount of time estimated for an average respondent to respond: It is estimated that 5,000 respondents will spend approximately 30 minutes to compile documentation requested by the letter.

(6) An estimate of the total public burden (in hours) associated with the collection: There are an estimated 5,000 annual total burden hours associated with this collection.

If additional information is required contact: Lynn Murray, Department Clearance Officer, Policy and Planning Staff, Justice Management Division, Department of Justice, 2 Constitution Square, Room 2E-502, 145 N Street, NE., Washington, DC 20530.

Dated: December 9, 2010.
Lynn Murray,
Department Clearance Officer, PRA, U.S. Department of Justice.

[FR Doc. 2010-31401 Filed 12-14-10; 8:45 am]

BILLING CODE 4410-FY-P